DEPARTMENT OF DEFENSE

Department of the Air Force

Notice of Issuance of Record of Decision Regarding Expansion of the Land Area of the Existing Hardwood Air-to-Surface Gunnery Range

AGENCY: Department of the Air Force, DoD.

ACTION: Notice of Record of Decision.

SUMMARY: The Air Force issued a Record of Decision (ROD) on February 8, 2002, to expand the land area of the existing Hardwood Air-to-Surface Gunnery Range. The decision supports high altitude restricted military training airspace, low altitude restricted military training airspace to match the land expansion area, and increase aircraft utilization in existing military operations area airspace in order to enhance combat readiness training. The ROD was issued in accordance with the Council on Environmental Quality's National Environmental Policy Act (NEPA) Regulations (40 CFR 1505.2). The ROD is based on information, analysis, and public comment contained in the Final Environmental Impact Statement, “Hardwood Range Expansion and Associated Airspace Actions,” November 2000 (Federal Register Volume 65, Number 242: December 15, 2000 [Page 78484-78485].

FOR FURTHER INFORMATION CONTACT: Harry Knudsen (301) 836-6295.

Pamela D. Fitzgerald,
Air Force Federal Register Liaison Officer.

[FR Doc. 02-4021 Filed 2-19-02; 8:45 am]

BILLING CODE 5001-05-U